GULF COAST ECOSYSTEM RESTORATION COUNCIL

[Docket No.: 111132025-1111-02]

Notice of Proposed Subaward Under a Council-Selected Restoration Component Award

AGENCY: Gulf Coast Ecosystem Restoration Council.

ACTION: Notice.

SUMMARY: The Gulf Coast Ecosystem Restoration Council (Council) publishes notice of a proposed modification of the subaward from the Texas Commission on Environmental Quality to the Armand Bayou Nature Preserve, a non-government organization, for the purpose of land acquisition in accordance with the Council's Texas Land Acquisition Program for Coastal Conservation Award set forth in the Council's 2021 Funded Priorities List.

FOR FURTHER INFORMATION CONTACT: Please send questions by email to Bridget Zachary by email bridget.zachary@restorethegulf.gov or call (504) 232-3750.

SUPPLEMENTARY INFORMATION: Section 1321(t)(2)(E)(ii)(III) of the Resources and Ecosystems Sustainability, Tourist Opportunities, and Revived Economies Act of 2012 (33 U.S.C. 1321(t) and note) (RESTORE Act) and the Department of the Treasury's implementing regulation at 31 CFR 34.401(b) set forth certain notice and publication requirements. They require that for purposes of awards made under the Comprehensive Plan Component of the RESTORE Act, a State or Federal award recipient may make a subaward to or enter into a cooperative agreement with a nongovernmental entity that equals or exceeds 10 percent of the total amount of the award only if at least 30 days before the State or Federal award recipient enters into such an agreement, the Council publishes in the Federal Register and delivers to specified Congressional committees the name of the recipient and subrecipient; a brief description of the activity, including its purpose; and the amount of the award. This notice fulfills the Federal Register publication requirement.

Description of Proposed Action

As specified in the Council's 2021 Funded Priorities List, which is available on the Council's website at https://www.restorethegulf.gov/our-work/fpl/fpl-3/, RESTORE Act funds in the amount of $24,300,000 will support the Texas Land Acquisition Program for Coastal Conservation Award to the Texas Commission on Environmental Quality. Under the Texas Land Acquisition Program for Coastal Conservation Award, Texas Commission on Environmental Quality will provide a subaward increase in the amount of $1,500,000 to Armand Bayou Nature Center, a non-government organization, to acquire and preserve approximately 106 acres of habitat along Armand Bayou. This amount is added to the previous subaward of $3,000,000 used for the purchase of 1,160 acres.

Keala J. Hughes,
Director of External Affairs & Tribal Relations, Gulf Coast Ecosystem Restoration Council.

[FR Doc. 2025-19981 Filed 11-14-25; 8:45 am]

BILLING CODE 6560-58-P